DEPARTMENT OF HEALTH AND HUMAN SERVICES

National Institutes of Health

National Institute on Alcohol Abuse and Alcoholism; Notice of Meeting

Pursuant to section 10(d) of the Federal Advisory Committee Act, as amended, notice is hereby given of a meeting of the National Advisory Council on Alcohol Abuse and Alcoholism.

The meeting will be open to the public as indicated below, with attendance limited to space available. Individuals who plan to attend and need special assistance, such as sign language interpretation or other reasonable accommodations, should notify the Contact Person listed below in advance of the meeting. The open session will be videocast and can be accessed from the NIH Videocasting and Podcasting website (http://videocast.nih.gov/).

A portion of this meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council on Alcohol Abuse and Alcoholism.

Date: May 9, 2023.

Closed: 10:00 a.m. to 10:45 a.m.

Agenda: To review and evaluate grant applications.

Open: 11:00 a.m. to 3:30 p.m.

Agenda: Presentations and other business of the Council.

Place: National Institutes of Health, National Institute on Alcohol Abuse and Alcoholism, Conference Rooms A, B & C, 6700B Rockledge Drive, Bethesda, MD 20817.

Contact Person: Ranga V. Srinivas, Ph.D., Acting Executive Secretary, National Advisory Council, Extramural Project Review Branch, National Institute on Alcohol Abuse and Alcoholism, National Institutes of Health, 6700 B Rockledge Drive, Room 2114, Bethesda, MD 20892, (301) 451-2067, srinivar@mail.nih.gov.

Name of Committee: National Advisory Council on Alcohol Abuse and Alcoholism, National Cancer Advisory Board, and National Advisory Council on Drug Abuse.

Date: May 10, 2022.

Open: 10:00 a.m. to 3:30 p.m.

Agenda: Presentation of NIAAA, NCI, and NIDA Director's Update, Scientific Reports, and other topics within the scope of the Collaborative Research on Addiction at NIH (CRAN).

Place: National Institutes of Health, National Institute on Alcohol Abuse and Alcoholism, Conference Rooms A, B & C, 6700B Rockledge Drive, Bethesda, MD 20817.

Contact Person: Ranga V. Srinivas, Ph.D., Acting Executive Secretary, National Advisory Council, Extramural Project Review Branch, National Institute on Alcohol Abuse and Alcoholism, National Institutes of Health, 6700 B Rockledge Drive, Room 2114, Bethesda, MD 20892, (301) 451-2067, srinivar@mail.nih.gov.

Paulette S. Gray, Ph.D., Director, Division of Extramural Activities, National Cancer Institute, National Institutes of Health, 9609 Medical Center Drive, Room 7W444, Bethesda, MD 20892, 240-276-6340, grayp@dea.nci.nih.gov.

Susan Weiss, Ph.D., Director, Division of Extramural Research, National Institute on Drug Abuse, National Institutes of Health, 6001 Executive Boulevard, NSC, Room 5274, Bethesda, MD 20892, 301-443-6487, sweiss@nida.nih.gov.

Any interested person may file written comments with the committee by forwarding the statement to the Contact Person listed on this notice. The statement should include the name, address, telephone number and when applicable, the business or professional affiliation of the interested person.

Information is also available on the Institute's/Center's home page: http://www.niaaa.nih.gov/AboutNIAAA/AdvisoryCouncil/Pages/default.aspx, where an agenda and any additional information for the meeting will be posted when available.

Additional Health and Safety Guidance: Before attending a meeting at an NIH facility, it is important that visitors review the NIH COVID-19 Safety Plan at https://ors.od.nih.gov/sr/dohs/safety/NIH-covid-19-safety-plan/Pages/default.aspx for information about requirements and procedures for entering NIH facilities, especially when COVID-19 community levels are medium or high. In addition, the Safer Federal Workforce website has FAQs for visitors at https://www.saferfederalworkforce.gov/faq/visitors/. Please note that if an individual has a COVID-19 diagnosis within 10 days of the meeting, that person must attend virtually. (For more information, please read NIH's Requirements for Persons after Exposure at https://ors.od.nih.gov/sr/dohs/safety/NIH-covid-19-safety-plan/COVID-assessment-testing/Pages/persons-after-exposure.aspx and What Happens When Someone Tests Positive at https://ors.od.nih.gov/sr/dohs/safety/NIH-covid-19-safety-plan/COVID-assessment-testing/Pages/test-positive.aspx.) Anyone from the public can attend the open portion of the meeting virtually via the NIH Videocasting website (http://videocast.nih.gov). Please continue checking these websites, in addition to the committee website listed below, for the most up to date guidance as the meeting date approaches.

(Catalogue of Federal Domestic Assistance Program Nos. 93.273, Alcohol Research Programs, National Institutes of Health, HHS)

Dated: April 5, 2023.
Melanie J. Pantoja,
Program Analyst, Office of Federal Advisory Committee Policy.

[FR Doc. 2023-07439 Filed 4-7-23; 8:45 am]

BILLING CODE 4140-01-P